FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: National Earthquake Hazard Reduction Program Publications Survey.

Type of Information Collection: New.

Abstract: FEMA will undertake this effort through an Internet-based survey to determine which publications are effective, which are in need of modification and which should be retired. In addition, FEMA will determine the need for additional publications, filling the information gaps identified in the review process.

Affected Public: Business or other for-profit; State, Local, or Tribal Government; Federal Government; Not-for-profit institutions; Individuals and households.

Number of Respondents: 1,150.

Estimated Time per Respondent: 15 minutes.

Frequency of Response: One-time.

Estimated Total Annual Burden Hours: 288.

Comments

Interested persons are invited to submit written comments on the proposed information collection to the Desk Officer for the Federal Emergency Management Agency, Office of Information and Regulatory Affairs, Office of Management and Budget, Washington, DC 20503 within 30 days of the date of this notice.

FOR FURTHER INFORMATION CONTACT: For additional information contact Muriel B. Anderson, Chief, Records Management Section, Program Services and Systems Branch, Facilities Management and Services Division, Administration and Resource Planning Directorate, Federal Emergency Management Agency via e-mail at InformationCollections@fema.gov. or by telephone at (202) 646-2625.

Dated: August 6, 2002.
Reginald Trujillo,
Branch Chief, , Program Services and Systems Branch, Facilities Management and Services Division, Administration and Resource Planning Directorate.

[FR Doc. 02-20301 Filed 8-9-02; 8:45 am]

BILLING CODE 6718-01-P